NUCLEAR REGULATORY COMMISSION

[NRC-2013-0068]

Aging Management of Internal Surfaces, Service Level III and Other Coatings, Atmospheric Storage Tanks, and Corrosion Under Insulation

AGENCY: Nuclear Regulatory Commission.

ACTION: Draft license renewal interim staff guidance; request for public comment.

SUMMARY: The U.S. Nuclear Regulatory Commission (NRC) requests public comment on the Draft License Renewal Interim Staff Guidance (LR-ISG), LR-ISG-2012-02, “Aging Management of Internal Surfaces, Service Level III and Other Coatings, Atmospheric Storage Tanks, and Corrosion under Insulation.” The draft LR-ISG proposes to revise NRC staff-recommended aging management programs (AMP) and aging management review (AMR) items in NUREG-1801, Revision 2, “Generic Aging Lessons Learned (GALL) Report,” and the NRC staff's AMR procedure, acceptance criteria, and AMR items contained in NUREG-1800, Revision 2, “Standard Review Plan for Review of License Renewal Applications for Nuclear Power Plants” (SRP-LR) to address new recommendations related to internal surface aging effects of components, and atmospheric storage tanks within the scope of the Requirements for Renewal of Operating Licenses for Nuclear Power Plants. The ISG also includes new recommendations to address Service Level III and Other coatings and corrosion under insulation.

DATES: Submit comments by June 16, 2013. Comments received after this date will be considered, if it is practical to do so, but the NRC staff is able to ensure consideration only for comments received on or before this date.

ADDRESSES: You may access information and comment submissions related to this document, which the NRC possesses and is publicly-available, by searching on http://www.regulations.gov under Docket ID NRC-2013-0068. You may submit comments by any of the following methods:

• Federal Rulemaking Web site: Go to http://www.regulations.gov and search for Docket ID NRC-2013-0068. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Mr. William Holston, Office of Nuclear Reactor Regulation, U.S. Nuclear Regulatory Commission, Washington, DC 20555-0001; telephone: 301-415-8573; email: William.Holston@nrc.gov.

SUPPLEMENTARY INFORMATION:

I. Accessing Information and Submitting Comments

A. Accessing Information

Please refer to Docket ID NRC-2013-0068 when contacting the NRC about the availability of information regarding this document. You may access information related to this document, which the NRC possesses and are publicly-available, by any of the following methods:

• Federal Rulemaking Web site: Go to http://www.regulations.gov and search for Docket ID NRC-2013-0068.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft LR-ISG-2012-02 is available electronically under ADAMS Accession No. ML12291A920. The GALL Report and SRP-LR are available under ADAMS Accession Nos. ML103490041 and ML103490036, respectively.

• NRC's PDR: You may examine and purchase copies of public documents at the NRC's PDR, Room O1-F21, One White Flint North, 11555 Rockville Pike, Rockville, Maryland 20852.

• NRC's Interim Staff Guidance Web site: The LR-ISG documents are also available online under the “License Renewal” heading at http://www.nrc.gov/reading-rm/doc-collections/#int.

B. Submitting Comments

Please include Docket ID NRC-2013-0068 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Background

The NRC issues LR-ISGs to communicate insights and lessons learned and to address emergent issues not covered in license renewal guidance documents, such as the GALL Report and SRP-LR. In this way, the NRC staff and stakeholders may use the guidance in an LR-ISG document before it is incorporated into a formal license renewal guidance document revision. The NRC staff issues LR-ISGs in accordance with the LR-ISG Process, Revision 2 (ADAMS Accession No. ML100920158), for which a notice of availability was published in the Federal Register on June 22, 2010 (75 FR 35510).

The NRC staff has developed draft LR-ISG-2012-02 to address: (a) Recurring internal corrosion, (b) a representative minimum sample size for periodic inspections in GALL Aging Management Program (AMP) XI.M38, “Inspection of Internal Surfaces in Miscellaneous Piping and Ducting Components,” (c) loss of coating integrity for Service Level III and Other coatings, (d) flow blockage of water-based fire protection system piping, (e) revisions to the scope and inspection recommendations of GALL AMP XI.M29, “Aboveground Metallic Tanks,” (f) corrosion under insulation, (g) external volumetric examination of internal piping surfaces of underground piping, (h) specific guidance for use of the pressurization option for inspecting elastomers in GALL AMP XI.M38, and (i) key miscellaneous changes to the GALL Report

III. Proposed Action

By this action, the NRC is requesting public comments on draft LR-ISG-2012-02. This LR-ISG proposes certain revisions to NRC guidance on implementation of the requirements in 10 CFR Part 54. The NRC staff will make a final determination regarding issuance of the LR-ISG after it considers any public comments received in response to this request.

Dated at Rockville, Maryland, this 4th day of April, 2013.
For the Nuclear Regulatory Commission.
John W. Lubinski,
Director, Division of License Renewal, Office of Nuclear Reactor Regulation.

[FR Doc. 2013-08699 Filed 4-11-13; 8:45 am]

BILLING CODE 7590-01-P